FEDERAL EMERGENCY MANAGEMENT AGENCY

44 CFR Part 65

[Docket No. FEMA-B-7328]

Changes in Flood Elevation Determinations

AGENCY: Federal Emergency Management Agency (FEMA).

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table below and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based on knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act. This rule is categorically excluded from the requirements of 44 CFR Part 10, Environmental Consideration. No environmental impact assessment has been prepared.

Regulatory Flexibility Act. The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Arizona:
Maricopa | City of Avondale | March 24, 2000, March 31, 2000, The Arizona Republic | The Honorable Thomas F. Morales, Jr., Mayor, City of Avondale, 525 North Central Avenue, Avondale, Arizona 85323 | February 23, 2000 | 040038
| City of Avondale | May 17, 2000, May 24, 2000, The Arizona Republic | The Honorable Ron Drake, Mayor, City of Avondale, 525 North Central Avenue, Avondale, Arizona 85323 | April 20, 2000 | 040038
| Town of Buckeye | May 17, 2000, May 24, 2000, The Arizona Republic | The Honorable Dusty Hull, Mayor, Town of Buckeye, 100 North Apache Road, Suite A, Buckeye, Arizona 85326 | April 20, 2000 | 040039
| City of Goodyear | May 17, 2000, May 24, 2000, The Arizona Republic | The Honorable William O. Arnold, Mayor, City of Goodyear, 119 North Litchfield Road, Goodyear, Arizona 85338 | April 20, 2000 | 040046
| City of Mesa | May 17, 2000, May 24, 2000, The Arizona Republic | The Honorable Wayne Brown, Mayor, City of Mesa, P.O. Box 1466, Mesa, Arizona 85211 | April 20, 2000 | 040048
| City of Phoenix | March 24, 2000, March 31, 2000, The Arizona Republic | The Honorable Skip Rimsza, Mayor, City of Phoenix, 200 West Washington, 11th Floor, Phoenix, Arizona 85003 | February 23, 2000 | 040051
| City of Phoenix | May 17, 2000, May 24, 2000, The Arizona Republic | The Honorable Skip Rimsza, Mayor, City of Phoenix, 200 West Washington, 11th Floor, Phoenix, Arizona 85003 | April 20, 2000 | 040051
| City of Tempe | May 17, 2000, May 24, 2000, The Arizona Republic | The Honorable Neil G. Giuliano, Mayor, City of Tempe, Tempe City Hall, P.O. Box 5002, Tempe, Arizona 85281 | April 20, 2000 | 040054
| City of Tolleson | March 24, 2000, March 31, 2000, The Arizona Republic | The Honorable Adolfo Gamez, Mayor, City of Tolleson, 9555 West Van Buren, Tolleson, Arizona 85353 | February 23, 2000 | 040055
| Unincorporated Areas | March 24, 2000, March 31, 2000, The Arizona Republic | The Honorable Andrew Kunasek, Chairperson, Maricopa County, Board of Supervisors, 301 West Jefferson, 10th Floor, Phoenix, Arizona 85003 | February 23, 2000 | 040037
| Unincorporated Areas | May 17, 2000, May 24, 2000, The Arizona Republic | The Honorable Andrew Kunasek, Chairperson, Maricopa County, Board of Supervisors, 301 West Jefferson, 10th Floor, Phoenix, Arizona 85003 | April 20, 2000 | 040037
| Unincorporated Areas | May 17, 2000, May 24, 2000, Holbrook Tribune News | The Honorable Tommy Thompson, Chairperson, Navajo County, Board of Supervisors, P.O. Box 668, Holbrook, Arizona 86025 | April 20, 2000 | 040066
California:
Los Angeles | City of Carson | March 16, 2000, March 23, 2000, Daily Breeze | The Honorable Peter Fajardo, Mayor, City of Carson, 701 East Carson Street, Carson, California 90749 | February 25, 2000 | 060107
| City of Compton | March 15, 2000, March 22, 2000, Compton Bulletin | The Honorable Omar Bradley, Mayor, City of Compton, 205 South Willowbrook Avenue, Compton, California 90220 | February 25, 2000 | 060111
| City of Gardena | March 16, 2000, March 23, 2000, Gardena Valley News | The Honorable Donald L. Dear, Mayor, City of Gardena, P.O. Box 47003, Gardena, California 90247-6803 | February 25, 2000 | 060119
| City of Lakewood | March 16, 2000, March 23, 2000, Press-Telegram | The Honorable Joseph Esquivel, Mayor, City of Lakewood, 5050 Clark Avenue, Lakewood, California 90712 | February 25, 2000 | 060130
| City of Long Beach | March 16, 2000, March 23, 2000, Press-Telegram | The Honorable Beverly O'Neill, Mayor, City of Long Beach, 333 West Ocean Boulevard, Long Beach, California 90802 | February 25, 2000 | 060136
| City of Los Angeles | March 16, 2000, March 23, 2000, Los Angeles Times | The Honorable Richard Riordan, Mayor, City of Los Angeles, 200 North Main Street, Los Angeles, California 90012 | February 25, 2000 | 060137
| City of Santa Clarita | June 5, 2000, June 12, 2000, The Signal | The Honorable Jo Anne Darcy, Mayor, City of Santa Clarita, 23920 Valencia Boulevard, Suite 300, Santa Clarita, California 91355 | May 15, 2000 | 060729
Riverside | City of Hemet | March 24, 2000, March 31, 2000, The Hemet News | The Honorable Lori VanArsdale, Mayor, City of Hemet, 450 East Latham Avenue, Hemet, California 92543 | February 18, 2000 | 060253
| Unincorporated Areas | March 24, 2000, March 31, 2000, The Hemet News | The Honorable Tom Mullen, Chairperson, Riverside County Board of Supervisors, 4080 Lemon Street, 14th Floor, Riverside, California 92501 | February 18, 2000 | 060245
Sacramento | City of Folsom | June 28, 2000, July 5, 2000, The Folsom Telegraph | The Honorable Stephen Miklos, Mayor, City of Folsom, 50 Natoma Street, Folsom, California 95630 | June 8, 2000 | 060263
San Diego | City of Chula Vista | March 18, 2000, March 25, 2000, Star News | The Honorable Shirley Horton, Mayor, City of Chula Vista, City Hall, 276 Fourth Avenue, Chula Vista, California 91910 | February 15, 2000 | 065021
| City of Escondido | March 10, 2000, March 17, 2000, North County Times | The Honorable Lori Pfeiler, Mayor, City of Escondido, 201 North Broadway, Escondido, California 92025 | January 31, 2000 | 060290
| City of Lemon Grove | May 3, 2000, May 10, 2000, Lemon Grove Review | The Honorable Mary Sessom, Mayor, City of Lemon Grove, 3232 Main Street, Lemon Grove, California 91945 | March 27, 2000 | 060723
| City of San Diego | March 10, 2000, March 17, 2000, San Diego Daily Transcript | The Honorable Susan Golding, Mayor, City of San Diego, 202 C Street, 11th Floor, San Diego, California 92101 | January 31, 2000 | 060295
| Unincorporated Areas | May 9, 2000, May 16, 2000, San Diego Union Tribune | The Honorable Dianne Jacob, Chairperson, San Diego County, Board of Supervisors, 1600 Pacific Highway, Room 335, San Diego, California 92101 | April 3, 2000 | 060284
San Joaquin | City of Stockton | May 266, 2000, June 2, 2000, The Record | The Honorable Gary Podesto, Mayor, City of Stockton, 425 North El Dorado Street, Stockton, California 95202 | May 10, 2000 | 060302
Colorado:
Adams | City of Federal Heights | June 5, 2000, June 12, 2000, Denver Rocky Mountain News | The Honorable Phil Stewart, Mayor, City of Federal Heights, 2380 West 90th Avenue, Federal Heights, Colorado 80221 | September 11, 2000 | 080240
| City of Westminster | March 10, 2000, March 17, 2000, Denver Post | The Honorable Nancy M. Heil, Mayor, City of Westminster, 4800 West 92nd Avenue, Westminster, Colorado 80030 | February 1, 2000 | 080008
Arapahoe | City of Englewood | March 24, 2000, March 31, 2000, The Englewood Herald | The Honorable Tom Burns, Mayor, City of Englewood, 3400 South Elati Street, Englewood, Colorado 80110 | June 29, 2000 | 085074
| City of Greenwood Village | March 23, 2000, March 30, 2000, The Villager | The Honorable David Phifer, Mayor, City of Greenwood Village, 6060 South Quebec Street, Greenwood Village, Colorado 80111 | June 29, 2000 | 080195
| Unincorporated Areas | March 23, 2000, March 30, 2000, The Villager | The Honorable Steve Ward, Chairperson, Arapahoe County, Board of Commissioners, 5334 South Prince Street, Littleton, Colorado 80166 | June 29, 2000 | 080011
Douglas | City of Littleton | March 23, 2000, March 30, 2000, The Littleton Independent | The Honorable Susan Thornton, Mayor, City of Littleton, 2255 West Berry Avenue, Littleton, Colorado 80165 | June 29, 2000 | 080017
| Unincorporated Areas | March 22, 2000, March 29, 2000, Douglas County News Press | The Honorable James Sullivan, Chairperson, Douglas County Board of Commissioners, 100 Third Street, Castle Rock, Colorado 80104 | June 29, 2000 | 080049
Jefferson | Unincorporated Areas | March 1, 2000, March 8, 2000, Columbine Community Courier | The Honorable Richard Sheehan, Chairperson, Jefferson County Board of Commissioners, 100 Jefferson County Parkway, Suite 5550, Golden, Colorado 80419 | January 31, 2000 | 080087
Iowa:
Black Hawk | City of Waterloo | March 29, 2000, April 5, 2000, Waterloo Courier | The Honorable John R. Rooff, Mayor, City of Waterloo, City Hall, 715 Mulberry Street, Waterloo, Iowa 50703 | February 22, 2000 | 190025
Kansas:
Johnson | City of DeSoto | May 4, 2000, May 11, 2000, DeSoto Explorer | The Honorable Steven Pruden, Mayor, City of DeSoto, P.O. Box C, DeSoto, Kansas 66018 | August 10, 2000 | 200161
| Unincorporated Areas | May 5, 2000, May 12, 2000, The Johnson County Sun | The Honorable Michael B. Press, Interim County Administrator, Johnson County, 111 South Cherry, Suite 3300, Olathe, Kansas 66061-3441 | August 10, 2000 | 200159
Sedgwick | City of Wichita | April 6, 2000, April 13, 2000, Wichita Eagle | The Honorable Bob Knight, Mayor, City of Wichita, City Hall, First Floor, 455 North Main Street, Wichita, Kansas 67202 | July 12, 2000 | 200328
| Unincorporated Areas | April 18, 2000, April 25, 2000, Wichita Eagle | The Honorable William Hancock, Chairperson, Sedgwick County Board of Commissioners, 1144 South Seneca, Wichita, Kansas 67213 | July 24, 2000 | 200321
Louisiana:
Lafayette Parish | Unincorporated Areas | April 21, 2000, April 28, 2000, The Advertiser | The Honorable Walter S. Comeaux, Lafayette Parish President, P.O. Box 4017-C, Lafayette, Louisiana 70501-0417 | March 9, 2000 | 220101
Nevada:
Clark | City of Henderson | April 19, 2000, April 26, 2000, Las Vegas Review-Journal | The Honorable James Gibson, Mayor, City of Henderson, 240 South Water Street, Henderson, Nevada 89015 | March 21, 2000 | 320015
| Unincorporated Areas | April 29, 2000, April 26, 2000, Las Vegas Review-Journal | The Honorable Bruce Woodbury, Chairperson, Clark County Board of Commissioners, 500 Grand Central Parkway, Las Vegas, Nevada 89155 | March 21, 2000 | 320003
Washoe | City of Sparks | March 21, 2000, March 28, 2000, Reno Gazette-Journal | The Honorable Tony Armstrong, Mayor, City of Sparks, P.O. Box 857, Sparks, Nevada 89432-0857 | February 10, 2000 | 320021
New Mexico:
Bernalillo | City of Albuquerque | May 5, 2000, May 12, 2000, Albuquerque Journal | The Honorable Jim Baca, Mayor, City of Albuquerque, P.O. Box 1293, Albuquerque, New Mexico 87103 | March 21, 2000 | 350002
Texas:
Bexar | Unincorporated Areas | March 21, 2000, March 28, 2000, San Antonio Express-News | The Honorable Cyndi Taylor Krier, Bexar County Judge, Bexar County Courthouse, 100 Dolorosa, Suite 100, San Antonio, Texas 78205-3036 | February 11, 2000 | 480035
Burleson | City of Somerville | March 2, 2000, March 9, 2000, Burleson County Citizen-Tribune | The Honorable Don Strickland, Mayor, City of Somerville, P.O. Box 159, Somerville, Texas 77879-0159 | February 2, 2000 | 480091
Collin | City of Frisco | June 16, 2000, June 23, 2000, Frisco Enterprise | The Honorable Kathy Seei, Mayor, City of Frisco, P.O. Box 1100, Frisco, Texas 75034 | May 24, 2000 | 480134
Dallas | City of Irving | March 9, 2000, March 16, 2000, The Irving News | The Honorable Joe H. Putnam, Mayor, City of Irving, P.O. Box 152288, Irving, Texas 75015-2288 | February 2, 2000 | 480180
| City of Dallas | April 21, 2000, April 28, 2000, Dallas Morning News | The Honorable Ron Kirk, Mayor, City of Dallas, City Hall, 1500 Marilla Street, Dallas, Texas 75201 | March 22, 2000 | 480171
| City of Dallas | May 16, 2000, May 23, 2000, Dallas Morning News | The Honorable Ron Kirk, Mayor, City of Dallas, 1500 Marilla Street, Dallas, Texas 75201 | August 21, 2000 | 480171
| City of Garland | May 25, 2000, June 1, 2000, The Garland News | The Honorable Jim Spence, Mayor, City of Garland, P.O. Box 469002, Garland, Texas 75046-9002 | April 21, 2000 | 485471
Denton | City of Lewisville | May 26, 2000, June 2, 2000, Lewisville News | The Honorable Clarence R. Myers, Mayor, City of Lewisville, 1197 West Main Street, Lewisville, Texas 75029-9002 | May 2, 2000 | 480195
| Unincorporated Areas | May 10, 2000, May 17, 2000 Lewisville News | The Honorable Kirk Wilson, Judge, Denton County, Courthouse-on-the-Square, 110 West Hickory Street, Second Floor, Denton, Texas 76201 | March 31, 2000 | 480774
| Unincorporated Areas | March 14, 2000, March 21, 2000, Denton Record Chronicle | The Honorable Kirk Wilson, Judge, Denton County, Courthouse-on-the-Square, 110 West Hickory Street, Second Floor, Denton, Texas 76201 | February 2, 2000 | 480774
Fort Bend | West Keegans Bayou Improvement District | March 21, 2000, March 28, 2000, Houston Chronicle | Ms. Sandra Weider, President, West Keegans Bayou Improvement District, 15014 Tranmore Drive, Houston, Texas 77083 | February 10, 2000 | 481602
Harris | City of Houston | March 3, 2000, March 10, 2000, Houston Chronicle | The Honorable Lee Brown, Mayor, City of Houston, P.O. Box 1562, Houston, Texas 77251-1562 | January 31, 2000 | 480296
Johnson | City of Burleson | May 31, 2000, June 7, 2000, Burleson Star | The Honorable Rich Roper, Mayor, City of Burleson, City Hall, 141 West Renfro, Burleson, Texas 76028 | September 5, 2000 | 485459
| Unincorporated Areas | May 31, 2000, June 7, 2000, Cleburne Times Review | The Honorable Roger Harmon, Johnson County Judge, Johnson County Courthouse, 2 North Main Street, Cleburne, Texas 76031 | September 5, 2000 | 480879
Tarrant | City of Saginaw | April 27, 2000, May 4, 2000, The Times Record | The Honorable Monte Nichols, Mayor, City of Saginaw, P.O. Box 79070, Saginaw, Texas 76179 | March 24, 2000 | 480610
Travis | Unincorporated Areas | May 2, 2000, May 9, 2000, Austin American Statesman | The Honorable Samuel T. Biscoe, Travis County Judge, P.O. Box 1748, Austin, Texas 78767-1748 | August 7, 2000 | 481026
Wichita | City of Wichita Falls | March 17, 2000, March 24, 2000, Wichita Falls Times Record News | The Honorable Kay Yeager, Mayor, City of Wichita Falls, 1300 Seventh Street, Wichita Falls, Texas 76301 | February 11, 2000 | 480662
Williamson | City of Round Rock | March 23, 2000, March 30, 2000, Round Rock Leader | The Honorable Charles Culpepper, Mayor, City of Round Rock, City Hall, 221 East Main Street, Round Rock, Texas 78664 | February 8, 2000 | 481048
Utah:
Utah | City of Provo | March 17, 2000, March 24, 2000, The Daily Herald | The Honorable Lewis Billings, Mayor, City of Provo, 351 West Center, Provo, Utah 84604 | June 22, 2000 | 490159
Washington:
Chelan | Unincorporated Areas | March 24, 2000, March 31, 2000, Wenatchee World | The Honorable John Hunter, Chairperson, Chelan County Board of Commissioners, 350 Orando Avenue, Wenatchee, Washington 98801 | February 11, 2000 | 530015
Douglas | City of East Wenatchee | May 11, 2000, May 18, 2000, Wenatchee World | The Honorable Steve Lacy, Mayor, City of East Wenatchee, 215 Ninth Street Northeast, East Wenatchee, Washington 98802 | April 14, 2000 | 530038

(Catalog of Federal Domestic Assistance No. 83.100, “Flood Insurance.”)
Dated: November 5, 2000.
Margaret E. Lawless,
Deputy Associate Director for Mitigation.

[FR Doc. 00-29128 Filed 11-14-00; 8:45 am]

BILLING CODE 6718-04-P